DEPARTMENT OF ENERGY

Energy Employees Occupational Illness Compensation Program Act of 2000; Corrected Revision to List of Covered Facilities

AGENCY: Department of Energy.

ACTION: Notice of corrected revision of list of covered facilities.

SUMMARY: The Department of Energy (“Department” or “DOE”) periodically publishes or revises a list of facilities covered under the Energy Employees Occupational Illness Compensation Program Act of 2000, as amended (“EEOICPA” or “Act”). On June 30, 2010, DOE published a notice (75 FR 37781) that amended the previous lists. DOE has determined that the June 30, 2010, notice should be replaced. This corrected notice now replaces the previous lists by removing two facilities designated as atomic weapons employer (AWE) facilities that should not have been so designated. Previous lists or revisions were published on April 9, 2009, June 28, 2007, November 30, 2005, August 23, 2004, July 21, 2003, December 27, 2002, June 11, 2001, and January 17, 2001.

FOR FURTHER INFORMATION CONTACT: Patricia R. Worthington, Ph.D, Director, Office of Health and Safety (HS-10), (301) 903-5926.

ADDRESSES: The Department welcomes comments on this notice. Comments should be addressed to: Patricia R. Worthington, Ph.D, Director, Office of Health and Safety (HS-10), U.S. Department of Energy, 1000 Independence Avenue, SW., Washington, DC 20585.

SUPPLEMENTARY INFORMATION:

Purpose

The EEOICPA establishes a program to provide compensation to certain employees who develop illnesses as a result of their employment with AWEs, DOE and its predecessor Agencies, certain of its contractors and subcontractors, and listed beryllium vendors. Section 3621(4) of the Act (codified at 42 U.S.C. 7384l(4)) defines an AWE as “an entity, other than the United States, that—(A) processed or produced, for use by the United States, material that emitted radiation and was used in the production of an atomic weapon, excluding uranium mining and milling; and (B) is designated by the Secretary of Energy as an [AWE] for the purposes of the compensation program.” Section 3621(5) defines an AWE facility as “a facility, owned by an [AWE], that is or was used to process or produce, for use by the United States, material that emitted radiation and was used in the production of an atomic weapon, excluding uranium mining or milling.”

It has recently come to the attention of the Department that one facility was previously mistakenly designated as an AWE facility because the designated facility was owned by the U.S. Government, and the statutory definitions of AWE and AWE facility exclude facilities owned by the United States. A second entity identified as an AWE facility is being removed from the list because the work performed by that entity was not related to production of an atomic weapon and was not performed for, or on behalf of, DOE or its predecessor Agencies.

This notice formally makes the changes to the list as indicated below:

• Painsville Site (Diamond Magnesium Company) of Ohio is no longer designated as an AWE facility because the work performed at that site was not related to atomic weapons production and was not conducted by, or on behalf of, DOE or its predecessor Agencies.

• St. Louis Airport Storage Site is no longer designated as an AWE facility because the facility was owned by the U.S. Government. This change has no effect on the determination of the Department of Labor that the work site is a DOE facility.

Issued in Washington, DC, on July 26, 2010.
Glenn S. Podonsky,
Chief Health, Safety and Security Officer, Office of Health, Safety and Security.

[FR Doc. 2010-19020 Filed 8-2-10; 8:45 am]

BILLING CODE 6450-01-P